SURFACE TRANSPORTATION BOARD

[Docket No. AB 290 (Sub-No. 392X); Docket No. AB 511 (Sub-No. 7X)]

Norfolk Southern Railway Company—Abandonment Exemption—in Hartford City, Ind.; Central Railroad Company of Indianapolis—Discontinuance of Lease and Operation Authority—in Hartford City, Ind.

Norfolk Southern Railway Company (NSR) and Central Railroad Company of Indianapolis (CERA) (collectively, Applicants), have jointly filed a verified notice of exemption under 49 CFR part 1152 subpart F—Exempt Abandonments and Discontinuances of Service for NSR to abandon, and for CERA to discontinue service over, an approximately 0.2-mile rail line between milepost RK 138.6 and milepost 138.8 in Hartford City, Ind. (the Line).¹ The Line traverses United States Postal Service Zip Code 47348.

¹ The Line CERA seeks to discontinue service over is a portion of a 15.9-mile line that CERA was authorized to lease and operate pursuant to an agreement with NSR. See Cent. R.R. Co. of Ind.—Lease & Operation Exemption—Norfolk S. Ry., FD 35300 (STB served Oct. 21, 2009).

Applicants have certified that: (1) No local or overhead traffic has moved over the Line for at least two years; (2) no formal complaint filed by a user of rail service on the Line (or by a state or local government entity acting on behalf of such user) regarding cessation of service over the Line either is pending with the Surface Transportation Board (Board) or with any U.S. District Court or has been decided in favor of complainant within the two-year period; and (3) the requirements at 49 CFR 1105.7(c) (environmental report), 49 CFR 1105.11 (transmittal letter), 49 CFR 1105.12 (newspaper publication), and 49 CFR 1152.50(d)(1) (notice to governmental agencies) have been met.

As a condition to these exemptions, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, these exemptions will be effective on September 20, 2017, unless stayed pending reconsideration. Petitions to stay that do not involve environmental issues,² formal expressions of intent to file an OFA under 49 CFR 1152.27(c)(2),³ and trail use/rail banking requests under 49 CFR 1152.29 must be filed by August 31, 2017. Petitions to reopen or requests for public use conditions under 49 CFR 1152.28 must be filed by September 8, 2017, with the Surface Transportation Board, 395 E Street SW., Washington, DC 20423-0001.

² The Board will grant a stay if an informed decision on environmental issues (whether raised by a party or by the Board's Office of Environmental Analysis (OEA) in its independent investigation) cannot be made before the exemptions' effective date. See Exemption of Out-of-Serv. Rail Lines, 5 I.C.C.2d 377 (1989). Any request for a stay should be filed as soon as possible so that the Board may take appropriate action before the exemptions' effective date.

³ Each OFA must be accompanied by the filing fee, which is currently set at $1,700. See 49 CFR 1002.2(f)(25). Effective September 1, 2017, the fee will become $1,800. See Regulations Governing Fees for Servs. Performed in Connection with Licensing & Related Servs.—2017 Update, EP 542 (Sub-No. 25), slip op. App. C at 20 (STB served July 28, 2017).

A copy of any petition filed with the Board should be sent to William A. Mullins, Baker & Miller PLLC, 2401 Pennsylvania Ave. NW., Suite 300, Washington, DC 20037.

If the verified notice contains false or misleading information, the exemptions are void ab initio.

Applicants have filed a combined environmental and historic report that addresses the effects, if any, of the abandonment on the environment and historic resources. OEA will issue an environmental assessment (EA) by August 25, 2017. Interested persons may obtain a copy of the EA by writing to OEA (Room 1100, Surface Transportation Board, Washington, DC 20423-0001) or by calling OEA at (202) 245-0305. Assistance for the hearing impaired is available through the Federal Information Relay Service (FIRS) at 1-800-877-8339. Comments on environmental and historic preservation matters must be filed within 15 days after the EA becomes available to the public.

Environmental, historic preservation, public use, or trail use/rail banking conditions will be imposed, where appropriate, in a subsequent decision.

Pursuant to the provisions of 49 CFR 1152.29(e)(2), NSR shall file a notice of consummation with the Board to signify that it has exercised the authority granted and fully abandoned the Line. If consummation has not been effected by NSR's filing of a notice of consummation by August 21, 2018, and there are no legal or regulatory barriers to consummation, the authority to abandon will automatically expire.

Board decisions and notices are available on our Web site at WWW.STB.GOV.

Decided: August 16, 2017.
By the Board, Rachel D. Campbell, Director, Office of Proceedings.
Rena Laws-Byrum,
Clearance Clerk.

[FR Doc. 2017-17598 Filed 8-18-17; 8:45 am]

BILLING CODE 4915-01-P